DEPARTMENT OF COMMERCE

Foreign-Trade Zones Board

[S-24-2024]

Approval of Subzone Expansion; Givaudan Fragrances Corporation; Mount Olive, New Jersey

On February 7, 2024, the Executive Secretary of the Foreign-Trade Zones (FTZ) Board docketed an application submitted by the State of New Jersey, Department of State, grantee of FTZ 44, requesting an expansion of Subzone 44P on behalf of Givaudan Fragrances Corporation in Mount Olive, New Jersey, subject to the existing activation limit of FTZ 44. The application has also requested the removal of 5.93 acres from Site 1 of FTZ 44.

The application was processed in accordance with the FTZ Act and Regulations, including notice in the Federal Register inviting public comment (89 FR 10030, February 13, 2024). The FTZ staff examiner reviewed the application and determined that it meets the criteria for approval. Pursuant to the authority delegated to the FTZ Board Executive Secretary (15 CFR 400.36(f)), the application to expand Subzone 44P was approved on March 28, 2024, subject to the FTZ Act and the Board's regulations, including section 400.13, and further subject to FTZ 44's 407.5-acre activation limit.

Dated: March 28, 2024.
Elizabeth Whiteman,
Executive Secretary.

[FR Doc. 2024-06954 Filed 4-1-24; 8:45 am]

BILLING CODE 3510-DS-P